SECURITIES AND EXCHANGE COMMISSION

Self-Regulatory Organizations; Notice of Application of Universal Display Corporation to Withdraw its Common Stock, $.01 Par Value From Listing and Registration on the Philadelphia Stock Exchange, Inc. File No. 1-12031

July 20, 2004.

On July 9, 2004, Universal Display Corporation, a Pennsylvania corporation (“Issuer”), filed an application with the Securities and Exchange Commission (“Commission”), pursuant to section 12(d) of the Securities Exchange Act of 1934 (“Act”),¹ and Rule 12d2-2(d) thereunder,² to withdraw its common stock, $.01 par value (“Security”), from listing and registration on the Philadelphia Stock Exchange, Inc. (“Phlx” or “Exchange”).

¹ 15 U.S.C. 78l(d).

² 17 CFR 240.12d2-2(d).

The Board of Directors (“Board”) of the Issuer approved a resolution on June 15, 2004 to voluntarily withdraw its Security from listing on the Exchange. The Board states that it is taking such action for the following reasons: (i) The Security is currently listed on the Nasdaq National Market System (“Nasdaq”) and the Phlx; (ii) the Security has traded almost exclusively on Nasdaq over the past several years; (iii) according to the Phlx, there have been no trades on the Security on the Exchange during the last two years; and (iv) the Board states that it is in the best interest of the Issuer and its stockholders to terminate listing the Security on the Exchange and to maintain its listing of the Security on Nasdaq.

The Issuer states in its application that it has met the requirements of Phlx Rule 809 governing an issuer's voluntary withdrawal of a security from listing and registration. The Issuer's application relates solely to the withdrawal of the Security from listing on the Phlx and from registration under section 12(b) of the Act ³ and shall not affect its obligation to be registered under section 12(g) of the Act.⁴

³ 15 U.S.C. 781(b).

⁴ 15 U.S.C. 781(g).

Any interested person may, on or before August 12, 2004, comment on the facts bearing upon whether the application has been made in accordance with the rules of the Phlx, and what terms, if any, should be imposed by the Commission for the protection of investors. All comment letters may be submitted by either of the following methods:

Electronic Comments

• Send an e-mail to rule-comments@sec.gov. Please include the File Number 1-12031 or;

Paper Comments

• Send paper comments in triplicate to Jonathan G. Katz, Secretary, Securities and Exchange Commission, 450 Fifth Street, NW., Washington, DC 20549-0609.

All submissions should refer to File Number 1-12031. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-16920 Filed 7-23-04; 8:45 am]

BILLING CODE 8010-01-P